DEPARTMENT OF TRANSPORTATION

Office of the Secretary

Notice of Applications for Certificates of Public Convenience and Necessity and Foreign Air Carrier Permits Filed Under Subpart B (Formerly Subpart Q) During the Week Ending February 18, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-20405.

Date Filed: February 14, 2005.

Due Date for Answers, Conforming Applications, or Motion to Modify Scope: March 7, 2005.

Description: Application of U.S. Helicopter Corporation, requesting a certificate of public convenience and necessity to engage in interstate scheduled air transportation of persons, property and mail between any point in any State of the United States or the District of Columbia, or any territory or possession of the United States, and any other point in any State of the United States or the District of Columbia, or any territory of possession of the United States.

Renee V. Wright,
Acting Program Manager, Docket Operations, Alternate Federal Register Liaison.

[FR Doc. 05-4308 Filed 3-4-05; 8:45 am]

BILLING CODE 4910-62-P